DEPARTMENT OF HOMELAND SECURITY

Federal Emergency Management Agency

[Docket ID FEMA-2015-0001]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: June 16, 2015.
Roy E. Wright,
Deputy Associate Administrator for Insurance and Mitigation, Department of Homeland Security, Federal Emergency Management Agency.

State and county | Location and case No. | Chief executive officer of community | Community map repository | Effective date of modification | Community No.
Arkansas:
Johnson (FEMA Docket No.: B-1472) | City of Clarksville (14-06-3379P) | The Honorable Billy Helms, Mayor, City of Clarksville, 205 Walnut Street, Clarksville, AR 72830 | 205 Walnut Street, Clarksville, AR 72830 | April 30, 2015 | 050112
Johnson (FEMA Docket No.: B-1472) | Unincorporated areas of Johnson County (14-06-3379P) | The Honorable Herman H. Houston, Johnson County Judge, 215 West Main Street, Clarksville, AR 72830 | Johnson County, 215 West Main Street, Clarksville, AR 72830 | April 30, 2015 | 050441
Delaware:
New Castle (FEMA Docket No.: B-1476) | Unincorporated areas of New Castle County (14-03-0976P) | The Honorable Thomas P. Gordon, New Castle County Executive, 87 Reads Way, New Castle, DE 19720 | New Castle County Government Center, 87 Reads Way, New Castle, DE 19720 | January 30, 2015 | 105085
Louisiana:
Ouachita (FEMA Docket No.: B-1472) | Unincorporated areas of Ouachita Parish (13-06-0061P) | The Honorable Shane Smiley, Ouachita Parish Police Jury President, 301 South Grand Street, Suite 201, Monroe, LA 71201 | Ouachita Parish, Floodplain Manager's Office, 1650 DeSiard Street, Suite 202, Monroe, LA 71201 | March 27, 2015 | 220135
Maryland:
Worcester (FEMA Docket No.: B-1472) | Town of Ocean City (14-03-1788P) | The Honorable Richard W. Meehan, Mayor, Town of Ocean City, P.O. Box 158, Ocean City, MD 21843 | Planning and Zoning Division, 301 North Baltimore Avenue, Ocean City, MD 21842 | April 17, 2015 | 245207
Worcester (FEMA Docket No.: B-1472) | Town of Ocean City (14-03-1789P) | The Honorable Richard W. Meehan, Mayor, Town of Ocean City, P.O. Box 158, Ocean City, MD 21843 | Planning and Zoning Division, 301 North Baltimore Avenue, Ocean City, MD 21842 | April 17, 2015 | 245207
Mississippi:
Harrison (FEMA Docket No.: B-1467) | City of Gulfport (14-04-8258P) | Mr. Marshall Pemberton, Mississippi State Floodplain Administrator, P.O. Box 267, Jackson, MS 39205 | Department of Urban Development, Building Code Services, 2200 15th Street, Trailer B5, Gulfport, MS 39501 | March 30, 2015 | 285253
Harrison (FEMA Docket No.: B-1467) | Unincorporated areas of Harrison County (14-04-8258P) | Mr. Marshall Pemberton, Mississippi State Floodplain Administrator, P.O. Box 267, Jackson, MS 39205 | Harrison County Code Office, 15309 Community Road, Gulfport, MS 39503 | March 30, 2015 | 285255
New Mexico: Taos (FEMA Docket No.: B-1472) | Unincorporated areas of Taos County (14-06-2951P) | The Honorable Tom Blankenhorn, Chairman, Taos County Commission, 105 Albright Street, Suite A, Taos, NM 87571 | Taos County Administrative Complex, 105 Albright Street, Suite H, Taos, NM 87571 | April 3, 2015 | 350078
Oklahoma:
Cleveland (FEMA Docket No.: B-1467) | City of Moore (14-06-2112P) | Mr. Stephen O. Eddy, Manager, City of Moore, 301 North Broadway Street, Moore, OK 73160 | City Hall, 301 North Broadway Street, Moore, OK 73160 | April 2, 2015 | 400044
Garfield (FEMA Docket No.: B-1472) | City of Enid (14-06-2061P) | Mr. Jerald Gilbert, Manager, City of Enid, 401 West Owen K. Garriott Road, Enid, OK 73701 | City Hall, 401 West Owen K. Garriott Road, Enid, OK 73701 | April 16, 2015 | 400062
Pennsylvania:
Allegheny (FEMA Docket No.: B-1476) | City of Pittsburgh (14-03-1501P) | The Honorable William Peduto, Mayor, City of Pittsburgh, 512 City County Building, 414 Grant Street, Pittsburgh, PA 15219 | Department of City Planning, 200 Ross Street, 4th Floor, Pittsburgh, PA 15219 | January 29, 2015 | 420063
Bucks (FEMA Docket No.: B-1476) | Borough of New Hope (14-03-1346P) | Mr. John Burke, Manager, Borough of New Hope, 123 New Street, New Hope, PA 18938 | Borough Hall, 123 New Street, New Hope, PA 18938 | March 17, 2015 | 420195
Montgomery (FEMA Docket No.: B-1467) | Borough of Ambler (14-03-0829P) | The Honorable Jeanne Sorg, Mayor, Borough of Ambler, 122 East Butler Avenue, Ambler, PA 19002 | Borough Hall, 122 East Butler Avenue, Ambler, PA 19002 | April 3, 2015 | 420947
Texas:
Bexar (FEMA Docket No.: B-1472) | City of San Antonio (14-06-3279P) | The Honorable Ivy R. Taylor, Mayor, City of San Antonio, P.O. Box 839966, San Antonio, TX 78283 | Department of Public Works, Storm Water Engineering, 1901 South Alamo Street, 2nd Floor, San Antonio, TX 78204 | April 22, 2015 | 480045
Bexar (FEMA Docket No.: B-1476) | City of San Antonio (14-06-3621P) | The Honorable Ivy R. Taylor, Mayor, City of San Antonio, P.O. Box 839966, San Antonio, TX 78283 | Transportation and Capital Improvements Department, Storm Water Division, 1901 South Alamo Street, 2nd Floor, San Antonio, TX 78204 | February 12, 2015 | 480045
Bexar (FEMA Docket No.: B-1472) | Unincorporated areas of Bexar County (14-06-3279P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | April 22, 2015 | 480035
Bexar (FEMA Docket No.: B-1476) | Unincorporated areas of Bexar County (14-06-3621P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | February 12, 2015 | 480035
Burnet (FEMA Docket No.: B-1444) | Unincorporated areas of Burnet County (14-06-1364P) | The Honorable James Oakley, Burnet County Judge, 220 South Pierce Street, Burnet, TX 78611 | Burnet County Courthouse, 220 South Pierce Street, Burnet, TX 78611 | December 8, 2014 | 481209
Collin (FEMA Docket No.: B-1472) | City of Murphy (14-06-1945P) | The Honorable Eric Barna, Mayor, City of Murphy, 206 North Murphy Road, Murphy, TX 75094 | City Hall, 206 North Murphy Road, Murphy, TX 75094 | April 10, 2015 | 480137
Collin (FEMA Docket No.: B-1472) | City of Sachse (14-06-1945P) | The Honorable Mike Felix, Mayor, City of Sachse, 3815 Sachse Road, Building B, Sachse, TX 75048 | City Hall, 3815 Sachse Road, Building B, Sachse, TX 75048 | April 10, 2015 | 480186
Dallas (FEMA Docket No.: B-1476) | City of Farmers Branch (14-06-2597P) | The Honorable Bob Phelps, Mayor, City of Farmers Branch, 13000 William Dodson Parkway, Farmers Branch, TX 75234 | City Hall, 13000 William Dodson Parkway, Farmers Branch, TX 75234 | February 2, 2015 | 480174
Dallas (FEMA Docket No.: B-1476) | Town of Highland Park (14-06-0617P) | The Honorable Joel T. Williams, III, Mayor, Town of Highland Park, 4700 Drexel Drive, Highland Park, Texas 75205 | Public Works Department, 4700 Drexel Drive, Highland Park, Texas 75205 | February 13, 2015 | 480178
Denton (FEMA Docket No.: B-1467) | Town of Northlake (14-06-3449P) | The Honorable Peter Dewing, Mayor, Town of Northlake, 1400 FM 407, Northlake, TX 76247 | Town Hall, 1400 FM 407, Northlake, TX 76247 | April 8, 2015 | 480782
Denton (FEMA Docket No.: B-1472) | Town of Trophy Club (14-06-1550P) | The Honorable Nick Sanders, Mayor, Town of Trophy Club, 100 Municipal Drive, Trophy Club, TX 76262 | Town Hall, 100 Municipal Drive, Trophy Club, TX 76262 | April 7, 2015 | 481606
Denton (FEMA Docket No.: B-1467) | Unincorporated areas of Denton County (14-06-2427P) | The Honorable Mary Horn, Denton County Judge, 110 West Hickory Street, 2nd Floor, Denton, TX 76201 | Denton County Government Center, 1505 East McKinney Street, Suite 175, Denton, TX 76209 | April 9, 2015 | 480774
Denton (FEMA Docket No.: B-1467) | Unincorporated areas of Denton County (14-06-3449P) | The Honorable Mary Horn, Denton County Judge, 110 West Hickory Street, 2nd Floor, Denton, TX 76201 | Denton County Government Center, 1505 East McKinney Street, Suite 175, Denton, TX 76209 | April 8, 2015 | 480774
Ector (FEMA Docket No.: B-1476) | City of Odessa (14-06-2873P) | The Honorable David Turner, Mayor, City of Odessa, P.O. Box 4398, Odessa, TX 79760 | City Hall, 411 West 8th Street, 4th Floor, Odessa, TX 79761 | February 10, 2015 | 480206
El Paso (FEMA Docket No.: B-1472) | City of El Paso (14-06-3838P) | The Honorable Oscar Leeser, Mayor, City of El Paso, 300 North Campbell Street, El Paso, TX 79901 | Land Development, 801 Texas Avenue, El Paso, TX 79901 | April 24, 2015 | 480214
Ellis (FEMA Docket No.: B-1475) | City of Grand Prairie (14-06-4417P) | The Honorable Ron Jensen, Mayor, City of Grand Prairie, P.O. Box 534045, Grand Prairie, TX 75053 | Engineering Department, 206 West Church Street, Grand Prairie, TX 75050 | April 16, 2015 | 485472
Ellis (FEMA Docket No.: B-1475) | City of Midlothian (14-06-2291P) | The Honorable Bill Houston, Mayor, City of Midlothian, 104 West Avenue E, Midlothian, TX 76065 | City Hall, 104 West Avenue E, Midlothian, TX 76065 | April 16, 2015 | 480801
Ellis (FEMA Docket No.: B-1475) | City of Midlothian (14-06-4417P) | The Honorable Bill Houston, Mayor, City of Midlothian, 104 West Avenue E, Midlothian, TX 76065 | City Hall, 104 West Avenue E, Midlothian, TX 76065 | April 16, 2015 | 480801
Ellis (FEMA Docket No.: B-1475) | Unincorporated areas of Ellis County (14-06-4417P) | The Honorable Carol Bush, Ellis County Judge, 101 West Main Street, Waxahachie, TX 75165 | Ellis County Courthouse, 101 West Main Street, Waxahachie, TX 75165 | April 16, 2015 | 480798
Ellis (FEMA Docket No.: B-1476) | City of Waxahachie (13-06-4294P) | The Honorable Kevin Strength, Mayor, City of Waxahachie, 401 South Rogers Street, Waxahachie, TX 75165 | 401 South Rogers Street, Waxahachie, TX 75165 | January 29, 2015 | 480211
Fort Bend (FEMA Docket No.: B-1472) | Unincorporated areas of Fort Bend County (14-06-3369P) | The Honorable Robert Hebert, Fort Bend County Judge, 401 Jackson Street, Richmond, TX 77469 | Fort Bend County Engineering Department, 1124 Blume Road, Rosenberg, TX 77471 | April 23, 2015 | 480228
Grayson (FEMA Docket No.: B-1476) | Town of Gunter (14-06-0033P) | The Honorable Charles Skeen, Mayor Pro Tem and Councilman, Town of Gunter, P.O. Box 349, Gunter, TX 75058 | Town Hall, 418 West Main Street, Gunter, TX 75058 | February 3, 2015 | 480832
Grayson (FEMA Docket No.: B-1476) | Unincorporated areas of Grayson County (14-06-0033P) | The Honorable Bill Magers, Grayson County Judge, 100 West Houston Street, Sherman, TX 75090 | Grayson County Courthouse, 100 West Houston Street, Sherman, TX 75090 | February 3, 2015 | 480829
Harris (FEMA Docket No.: B-1472) | City of Houston (13-06-4126P) | The Honorable Annise D. Parker, Mayor, City of Houston, P.O. Box 1562, Houston, TX 77251 | Floodplain Management Office, 1002 Washington Avenue, 3rd Floor, Houston, TX 77002 | April 9, 2015 | 480296
Harris (FEMA Docket No.: B-1472) | Unincorporated areas of Harris County (13-06-4126P) | The Honorable Edward M. Emmett, Harris County Judge, 1001 Preston Street, Suite 911, Houston, TX 77002 | Harris County Permit Office, 10555 Northwest Freeway, Suite 120, Houston, TX 77092 | April 9, 2015 | 480287
Harris (FEMA Docket No.: B-1472) | Unincorporated areas of Harris County (14-06-1809P) | The Honorable Edward M. Emmett, Harris County Judge, 1001 Preston Street, Suite 911, Houston, TX 77002 | Harris County Permit Office, 10555 Northwest Freeway, Suite 120, Houston, TX 77092 | April 8, 2015 | 480287
Harris (FEMA Docket No.: B-1472) | Unincorporated areas of Harris County (14-06-3886P) | The Honorable Edward M. Emmett, Harris County Judge, 1001 Preston Street, Suite 911, Houston, TX 77002 | Harris County Permit Office, 10555 Northwest Freeway, Suite 120, Houston, TX 77092 | April 8, 2015 | 480287
Hays (FEMA Docket No.: B-1467) | Unincorporated areas of Hays County (14-06-2877P) | The Honorable Bert Cobb, MD, Hays County Judge, 111 East San Antonio Street, Suite 300, San Marcos, TX 78666 | Hays County Development Services Department, 2171 Yarrington Road, San Marcos, TX 78667 | March 30, 2015 | 480321
Lampasas (FEMA Docket No.: B-1476) | Unincorporated areas of Lampasas County (14-06-1364P) | The Honorable Wayne L. Boultinghouse, Lampasas County Judge, P.O. Box 231, Lampasas, TX 76550 | Lampasas County Courthouse, County Judge's Office, 501 East 4th Street, Lampasas, TX 76550 | December 8, 2014 | 480899
Midland (FEMA Docket No.: B-1472) | City of Odessa (14-06-2140P) | The Honorable David Turner, Mayor, City of Odessa, P.O. Box 4398, Odessa, TX 79760 | City Hall, 411 West 8th Street, 4th Floor, Odessa, TX 79761 | April 14, 2015 | 480206
Midland (FEMA Docket No.: B-1472) | Unincorporated areas of Midland County (14-06-2140P) | The Honorable Michael R. Bradford, Midland County Judge, 500 North Loraine Street, Suite 1100, Midland, TX 79701 | Midland County, City of Midland Engineering Services, 300 North Loraine Street, Suite 510, Midland, TX 79701 | April 14, 2015 | 481239
Tarrant (FEMA Docket No.: B-1476) | City of Grand Prairie (14-06-1709P) | The Honorable Ron Jensen, Mayor, City of Grand Prairie, P.O. Box 534045, Grand Prairie, TX 75053 | Engineering Department, 206 West Church Street, Grand Prairie, TX 75050 | April 1, 2015 | 485472
Tarrant (FEMA Docket No.: B-1472) | City of River Oaks (14-06-2601P) | The Honorable Herman Earwood, Mayor, City of River Oaks, 4900 River Oaks Boulevard, River Oaks, TX 76114 | 4900 River Oaks Boulevard, River Oaks, TX 76114 | April 3, 2015 | 480609

[FR Doc. 2015-17519 Filed 7-16-15; 8:45 am]

BILLING CODE 9110-12-P